DEPARTMENT OF AGRICULTURE

Forest Service

San Bernardino National Forest, California, Withdrawal of Notice of Intent To Prepare a Joint Environmental Impact Report/Environmental Impact Statement for the Proposed North-South Project EIR/EIS

AGENCY: Forest Service, USDA.

ACTION: Withdrawal of notice of intent to prepare an EIR/EIS.

SUMMARY: On October 2, 2015 (Federal Register Vol. 80, No. 191, page 59728), the San Bernardino National Forest (Forest Service) gave notice that, together with the California Public Utilities Commission (CPUC), the Forest Service intended to prepare a joint Environmental Impact Report and Environmental Impact Statement (EIR/EIS) for the Southern California Gas Company (SoCalGas) and San Diego Gas and Electric (SDG&E) proposed North-South Project. The joint EIR/EIS would have met the requirements of the National Environmental Policy Act (NEPA) and the California Environmental Quality Act (CEQA). The CPUC denied the application on July 14, 2016 based on a lack of need for the proposed pipeline. SoCalGas withdrew their federal application on August 8, 2016 as a result of the CPUC action. Therefore, further preparation of an EIR/EIS is not necessary. The notice of intent is withdrawn and the NEPA process is hereby terminated.

FOR FURTHER INFORMATION CONTACT: Jerry Sirski, Natural Resource Specialist, San Bernardino National Forest, 602 South Tippecanoe Avenue, San Bernardino, CA 92408. Telephone: (909) 382-2690. Email: jsirski@fs.fed.us.

Individuals who use telecommunication devices for the deaf (TDD) may call the Federal Information Relay Service (FIRS) at 1-800-877-8339 between 8 a.m. and 8 p.m., Eastern Time, Monday through Friday.

SUPPLEMENTARY INFORMATION: The primary components of the Proposed Project included the construction of a 36-inch-diameter natural gas transmission pipeline and the rebuilding of the Adelanto Compressor Station. The pipeline would have been primarily constructed within existing public and private rights-of-way. The Adelanto to Moreno pipeline would have been approximately 65 miles in length and would have started at the Adelanto Compressor Station in the high desert city of Adelanto and proceeded in a southerly direction through the Cajon Pass and the San Bernardino National Forest, terminating at the Moreno Pressure Limiting Station in the City of Moreno Valley. Approximately eight miles of the proposed pipeline and associated temporary construction areas would have crossed lands subject to Forest Service jurisdiction. The balance of the alignment crossed through non-federal land in San Bernardino and Riverside Counties along public roads. The project would have needed approval by both the Forest Service and the CPUC, and the project is not viable with the CPUC decision to deny the application.

Several agencies had agreed to be cooperating agencies for the NEPA review, including the Environmental Protection Agency, the California State Water Resources Control Board, San Bernardino County, and the Mojave Desert Air Quality Management District. Cooperative activities between the Forest Service and those agencies with respect to the proposed EIR/EIS have ended.

Dated: March 24, 2017.
Jody Noiron,
Forest Supervisor, San Bernardino National Forest, USDA Forest Service.

[FR Doc. 2017-06464 Filed 3-31-17; 8:45 am]

BILLING CODE 3410-11-P